DEPARTMENT OF THE INTERIOR

National Park Service

Extension for Expiring Concession Contracts

AGENCY: National Park Service, Interior.

ACTION: Public Notice.

SUMMARY: Pursuant to 36 CFR 51.23, notice is hereby given that the National Park Service intends to extend the following expiring concession contract for a period of up to 6-months, or until such time as a new contract is awarded, whichever occurs sooner.

Concessioner ID No. | Concessioner name | Park
CC-EVER002-82 | Everglades National Park Boat Tours, Inc. | Everglades NP

EFFECTIVE DATE: January 1, 2003.

FOR FURTHER INFORMATION CONTACT: Cynthia Orlando, Concession Program Manager, National Park Service, Washington, DC 20240, Telephone 202/513-7144.

SUPPLEMENTARY INFORMATION: The concession authorization expires on its terms on December 31, 2002. The National Park Service has determined that the proposed 6-month extension is necessary in order to avoid interruption of visitor services and has taken all reasonable and appropriate steps to consider alternatives to avoid such interruption. This extension will allow the National Park Service to develop a prospectus leading to competitive selection for a new long-term concession contract.

Dated: February 14, 2003.
Richard G. Ring,
Associate Director, Administrator, Business Practices and Workforce Development.

[FR Doc. 03-10022 Filed 4-22-03; 8:45 am]

BILLING CODE 4310-76-M